DEPARTMENT OF TRANSPORTATION

Surface Transportation Board

[STB Finance Docket No. 34276]

Massachusetts Port Authority-Acquisition Exemption-Certain Assets of Boston and Maine Corporation

The Massachusetts Port Authority (Massport), a noncarrier, has filed a notice of exemption under 49 CFR 1150.31 to acquire from the Boston and Maine Corporation (B&M) certain railroad rights-of-way and related improvements, totaling approximately 1.45 miles, in Charlestown, Suffolk County, MA. Massport proposes to acquire B&M's right, title and interest in the rail line, known as the Mystic Wharf Branch line, between milepost 0.00 and milepost 1.45.¹

¹ B&M received Board authorization to abandon the above-described line pursuant to a decision in Boston and Maine Corporation-Abandonment-in Suffolk County, MA, STB Docket No. AB-32 (Sub-No. 92) (STB served Dec. 21, 2001).

Massport indicates that it does not intend to conduct rail operations over the line, but is acquiring it to preserve the rail right-of-way and availability of rail service to the Port. Massport further indicates that it may develop an adjacent haul road on the property at a later date. According to Massport, B&M will retain an exclusive permanent easement on the line for rail operations, and its affiliate Springfield Terminal Railway Company will continue to be responsible for providing rail operations over the line. Massport will not obtain the right or obligation to provide rail freight service on the line. Massport certifies that its projected revenues as a result of this transaction will not result in the creation of a Class II or Class I rail carrier.

The parties reported that they intended to consummate the transaction on November 13, 2002.

If the notice contains false or misleading information, the exemption is void ab initio.² Petitions to revoke the exemption under 49 U.S.C. 10502(d) may be filed at any time. The filing of a petition to revoke will not automatically stay the transaction.

² Massport simultaneously filed a motion to dismiss this proceeding, maintaining that the Board should not exercise jurisdiction over this transaction. The motion will be addressed by the Board in a separate decision.

An original and 10 copies of all pleadings, referring to STB Finance Docket No. 34276, must be filed with the Surface Transportation Board, 1925 K Street, NW., Washington, DC 20423-0001. In addition, a copy of each pleading must be served on Keith G. O'Brien, REA, CROSS & AUCHINCLOSS, 1707 L Street NW., Suite 570, Washington, DC 20036.

Board decisions and notices are available on our Web site at http://www.stb.dot.gov.

Decided: November 19, 2002.
By the Board, David M. Konschnik, Director, Office of Proceedings.
Vernon A. Williams,
Secretary.

[FR Doc. 02-29876 Filed 11-25-02; 8:45 am]

BILLING CODE 4915-00-P